DEPARTMENT OF TRANSPORTATION

Federal Aviation Administration

14 CFR Part 39

[Docket No. FAA-2020-0332; Product Identifier 2020-NM-037-AD; Amendment 39-21227; AD 2020-18-06]

RIN 2120-AA64

Airworthiness Directives; Airbus SAS Airplanes

AGENCY: Federal Aviation Administration (FAA), Department of Transportation (DOT).

ACTION: Final rule.

SUMMARY: The FAA is adopting a new airworthiness directive (AD) for certain Airbus SAS Model A318 series airplanes; Model A319-111, -112, -113, -114, -115, -131, -132, and -133 airplanes; Model A320-211, -212, -214, -216, -231, -232, and -233 airplanes; and Model A321-111, -112, -131, -211, -212, -213, -231, and -232 airplanes. This AD was prompted by a report that cracks were detected on the left-hand (LH) and right-hand (RH) sides of the first rivet hole of the frame (FR) 43 foot coupling during scheduled maintenance. This AD requires a rotating probe test of the fastener holes at FR43 on the LH and RH sides for any cracking, and on-condition actions if necessary, as specified in a European Union Aviation Safety Agency (EASA) AD, which is incorporated by reference. The FAA is issuing this AD to address the unsafe condition on these products.

DATES: This AD is effective October 8, 2020.

The Director of the Federal Register approved the incorporation by reference of a certain publication listed in this AD as of October 8, 2020.

ADDRESSES: For material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0332.

Examining the AD Docket

You may examine the AD docket on the internet at https://www.regulations.gov by searching for and locating Docket No. FAA-2020-0332; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223; email Sanjay.Ralhan@faa.gov.

SUPPLEMENTARY INFORMATION:

Discussion

The EASA, which is the Technical Agent for the Member States of the European Union, has issued EASA AD 2020-0037, dated February 27, 2020; corrected February 28, 2020 (“EASA AD 2020-0037”) (also referred to as the Mandatory Continuing Airworthiness Information, or “the MCAI”), to correct an unsafe condition for certain Airbus SAS Model A318 series airplanes; Model A319-111, -112, -113, -114, -115, -131, -132, and -133 airplanes; Model A320-211, -212, -214, -215, -216, -231, -232, and -233 airplanes; and Model A321-111, -112, -131, -211, -212, -213, -231, and -232 airplanes. Model A320-215 airplanes are not certificated by the FAA and are not included on the U.S. type certificate data sheet; this AD therefore does not include those airplanes in the applicability.

The FAA issued a notice of proposed rulemaking (NPRM) to amend 14 CFR part 39 by adding an AD that would apply to certain Airbus SAS Model A318 series airplanes; Model A319-111, -112, -113, -114, -115, -131, -132, and -133 airplanes; Model A320-211, -212, -214, -216, -231, -232, and -233 airplanes; and Model A321-111, -112, -131, -211, -212, -213, -231, and -232 airplanes. The NPRM published in the Federal Register on April 17, 2020 (85 FR 21334). The NPRM was prompted by a report that cracks were detected on the LH and RH sides of the first rivet hole of the FR43 foot coupling during scheduled maintenance. The NPRM proposed to require a rotating probe test of the fastener holes at FR43 on the LH and RH sides for any cracking, and on-condition actions if necessary, as specified in an EASA AD.

The FAA is issuing this AD to address cracking in the foot coupling, which could affect the structural integrity of the airplane. See the MCAI for additional background information.

Comments

The FAA gave the public the opportunity to participate in developing this final rule. The following presents the comments received on the NPRM and the FAA's response to each comment.

Support for the NPRM

Olivia Lawless stated support for the NPRM.

Request for Operator Training

Olivia Lawless requested that training for operators should be implemented, or at least explored. The commenter stated concern about the implications that may result from requiring “on-condition actions including a high frequency eddy current (rototest) inspection for cracks of the affected fastener holes, modification, and repair.” The commenter noted that the NPRM suggests that the materials are available through the parties' normal course of business, however, it would be unlikely that employees would know how to perform these tests, or how to determine when on-condition actions occur without significant amounts of training.

The FAA agrees to clarify. The service information needed to comply with the required actions will be available in the AD docket. That service information contains detailed instructions for operators and their employees to follow. In addition, the FAA notes that it is the operators' responsibility to have adequate tools and provide adequate training for its employees to accomplish the required actions in an AD. The FAA has not changed this AD in this regard.

Request To Revise the Compliance Time

Delta Airlines (DAL) requested that the compliance time be limited to flight cycles and not flight hours. DAL stated that Airbus Service Bulletin A320-53-1269, Revision 02, dated February 7, 2019, specifies that the cracks which prompted the development of modification 153126 and modification 153742, were identified as a part of the full scale fatigue test campaign. DAL commented that because the failure mode is fatigue driven, there is no reason to include a compliance time requirement based upon flight hours.

The FAA disagrees with the commenter's request. The requirements in this AD align with the requirements specified in EASA AD 2020-0037, which include compliance times in both flight hours and flight cycles. In addition, the FAA notes that the commenter did not submit any substantiating data to support using only a flight cycle requirement. However, under the provisions of paragraph (j)(1) of this AD, the FAA will consider requests for approval of a revision to the compliance time if sufficient data are submitted to substantiate that the change would provide an acceptable level of safety. The FAA has not changed this AD in this regard.

Request To Use an Alternate Chemical Corrosion Surface Pretreatment

DAL requested the use of CML 10ABE1 as a more appropriate choice of a chemical corrosion surface pretreatment. DAL stated that after the cold expansion is completed using Airbus Structural Repair Manual (SRM) 51-48-00, but prior to the installation of the new fastener, Airbus Service Bulletin A320-53-1270, Revision 02, dated April 11, 2014, specifies an application of chemical conversion surface pretreatment CML 10ABC1, which is intended for use in fuel tank applications.

The FAA disagrees with the commenter's request. The FAA has not received any information from either the state of design, EASA, or Airbus allowing alternate CML 10ABE1. CML 10ABC1 is a suitable pretreatment product that meets the requirements of this AD and addresses the identified unsafe condition. However, under the provisions of paragraph (j)(1) of this AD, the FAA will consider requests for approval of application of alternative chemical corrosion surface pretreatment products if sufficient data are submitted to substantiate that the change would provide an acceptable level of safety. The FAA has not changed this AD in this regard.

Request To Add an Exception to the NPRM

DAL requested that the application of corrosion inhibiting compounds (CICs) be added to paragraph (h) of the proposed AD, “Exceptions to EASA AD 2020-0037,” and not be a requirement for AD compliance. DAL stated that paragraph 3.C.(4)(c) of the Accomplishment Instructions of Airbus Service Bulletin A320-53-1270, Revision 02, dated April 11, 2014, requires that corrosion preventative compound CML 12ADB1 be applied to the cold worked area. DAL commented that each operator has a corrosion prevention and control program (CPCP) to control corrosion and may revise CIC products as necessary. DAL also commented that requiring the application of CML 12ADB1 within the required for compliance paragraph is problematic in maintaining perpetual compliance with the NPRM if a CPCP maintenance program task is applicable to the same area.

The FAA disagrees with the commenter's request. Since this AD affects multiple operators, and the FAA is not aware of the details of CIC compounds used as an inherent part of each operator's CPCP maintenance task, it is not practical for the FAA to revise this AD based on DAL's unique maintenance program. If DAL intends to use an approved substitution of the CIC that is not included in the SRM as an alternate to the CIC required by this AD, then DAL may request an alternative method of compliance (AMOC) under the provisions of paragraph (j)(1) of this AD. The FAA has not changed this AD regarding this issue.

Conclusion

The FAA reviewed the relevant data, considered the comments received, and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

EASA AD 2020-0037 describes procedures for a rotating probe test (special detailed inspection) of the fastener holes at FR43 on the LH and RH sides for any cracking, and on-condition actions including a high frequency eddy current (rototest) inspection for cracks of the affected fastener holes, modification, and repair.

This material is reasonably available because the interested parties have access to it through their normal course of business or by the means identified in the ADDRESSES section.

Costs of Compliance

The FAA estimates that this AD affects 867 airplanes of U.S. registry. The FAA estimates the following costs to comply with this AD:

Estimated Costs for Required Actions
Labor cost | Parts cost | Cost per product | Cost on U.S. operators
9 work-hours × $85 per hour = $765 | $0 | $765 | $663,255

The FAA estimates the following costs to do any necessary on-condition actions that would be required based on the results of any required actions. The FAA has no way of determining the number of aircraft that might need these on-condition actions:

Estimated Costs of On-Condition Actions
Labor cost | Parts cost | Cost per product
22 work-hours × $85 per hour = $1,870 | $338 | $2,208

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-18-06 Airbus SAS: Amendment 39-21227; Docket No. FAA-2020-0332; Product Identifier 2020-NM-037-AD.

(a) Effective Date

This AD is effective October 8, 2020.

(b) Affected ADs

None.

(c) Applicability

This AD applies to Airbus SAS Model airplanes specified in paragraphs (c)(1) through (4) of this AD, certificated in any category, as identified in European Union Aviation Safety Agency (EASA) AD 2020-0037, dated February 27, 2020; corrected February 28, 2020 (“EASA AD 2020-0037”).

(1) Model A318-111, -112, -121, and -122 airplanes.

(2) Model A319-111, -112, -113, -114, -115, -131, -132, and -133 airplanes.

(3) Model A320-211, -212, -214, -216, -231, -232, and -233 airplanes.

(4) Model A321-111, -112, -131, -211, -212, -213, -231, and -232 airplanes.

(d) Subject

Air Transport Association (ATA) of America Code 53, Fuselage.

(e) Reason

This AD was prompted by a report that cracks were detected on the left- and right-hand sides of the first rivet hole of the frame (FR) 43 foot coupling during scheduled maintenance. The FAA is issuing this AD to address cracking in the foot coupling, which could affect the structural integrity of the airplane.

(f) Compliance

Comply with this AD within the compliance times specified, unless already done.

(g) Requirements

Except as specified in paragraph (h) of this AD: Comply with all required actions and compliance times specified in, and in accordance with, EASA AD 2020-0037.

(h) Exceptions to EASA AD 2020-0037

(1) Where EASA AD 2020-0037 refers to its effective date, this AD requires using the effective date of this AD.

(2) The “Remarks” section of EASA AD 2020-0037 does not apply to this AD.

(i) No Reporting Requirement

Although the service information referenced in EASA AD 2020-0037 specifies to submit certain information to the manufacturer, this AD does not include that requirement.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): For any service information referenced in EASA AD 2020-0037 that contains RC procedures and tests: Except as required by paragraph (j)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Sanjay Ralhan, Aerospace Engineer, International Section, Transport Standards Branch, FAA, 2200 South 216th St., Des Moines, WA 98198; telephone and fax 206-231-3223; email Sanjay.Ralhan@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0037, dated February 27, 2020; corrected February 28, 2020.

(ii) [Reserved]

(3) For information about EASA AD 2020-0037, contact the EASA, Konrad-Adenauer-Ufer 3, 50668 Cologne, Germany; telephone +49 221 8999 000; email ADs@easa.europa.eu; internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0332.

(5) You may view this material that is incorporated by reference at the National Archives and Records Administration (NARA). For information on the availability of this material at NARA, email fedreg.legal@nara.gov, or go to: https://www.archives.gov/federal-register/cfr/ibr-locations.html.

Issued on August 20, 2020.
Lance T. Gant,
Director, Compliance & Airworthiness Division, Aircraft Certification Service.

[FR Doc. 2020-19401 Filed 9-2-20; 8:45 am]

BILLING CODE 4910-13-P